DEPARTMENT OF AGRICULTURE

Natural Resources Conservation Service

Yellow River Watershed Structure No. 16: Gwinnett County, GA

AGENCY: Natural Resources Conservation Service, Agriculture.

ACTION: Notice of a finding of no significant impact.

SUMMARY: Pursuant to Section 102[2][c] of the National Environmental Policy Act of 1969, the Council on Environmental Quality Regulations (40 CFR part 1500); and the Natural Resources Conservation Service Regulations (7 CFR part 650); the Natural Resources Conservation Service, U.S. Department of Agriculture, gives notice that an environmental impact statement is not being prepared for the Yellow River Watershed Structure No. 16, Gwinnett County, Georgia.

FOR FURTHER INFORMATION CONTACT: Jimmy Bramblett, Water Resources Programs Leader, Natural Resources Conservation Service, Federal Building, 355 East Hancock Avenue, Athens, Georgia 30601, Telephone [706] 546-2073, E-Mail jimmy.bramblett@ga.usda.gov.

SUPPLEMENTARY INFORMATION: The Environmental Assessment of this federal assisted action indicates that the project will not cause significant local, regional, or national impacts on the environment. As a result of these findings, Leonard Jordan, State Conservationist, has determined that the preparation and review of an environmental impact statement is not needed for this project.

The project purpose is continued flood prevention. The planned works of improvement include upgrading an existing floodwater retarding structure.

The Notice of a Finding of No Significant Impact [FONSI] has been forwarded to the U.S. Environmental Protection Agency and to various Federal, State, and local agencies and interest parties. A limited number of the FONSI are available to fill single copy requests at the above address. Basic data developed during the environmental assessment are on file and may be reviewed by contacting Jimmy Bramblett at the above number.

No administrative action on implementation of the proposal will be taken until 30 days after the date of this publication in the Federal Register.

Leonard Jordan,
State Conservationist.

[This activity is listed in the Catalog of Federal Domestic Assistance under 10.904, Watershed Protection and Flood Prevention, and is subject to the provisions of Executive Order 12372, which requires inter-government consultation with State and local officials].

Finding of No Significant Impact for Yellow River Watershed Structure No. 16, Gwinnett County, Georgia, May 2004

Introduction

The Yellow River Watershed is a federally assisted action authorized for planning under Public Law 106-472, the Watershed Rehabilitation Act, which amends Public Law 83-566, the Watershed Protection and Flood Prevention Act. An environmental assessment was undertaken in conjunction with development of the watershed plan. This assessment was conducted in consultation with local, State, and Federal agencies as well as with interested organizations and individuals. Data developed during the assessment are available for public review at the following location: U.S. Department of Agriculture, Natural Resources Conservation Service, 355 East Hancock Avenue, Athens, Georgia 30601.

Recommended Action

This document describes a plan for upgrading an existing floodwater retarding structure, Yellow River Watershed Structure No. 16[Y-16], to meet current dam safety criteria in Georgia. The plan calls for construction of a roller compacted concrete spillway over the embankment of the existing earthen dam. Works of improvement will be accomplished by providing financial and technical assistance through an eligible local sponsor.

The principal project measures are to:

1. Construct a 260-foot wide rollover compacted concrete [RCC] chute spillway to protect underlying soil materials from erosion during overtopping. The RCC will be constructed as a staged broad-crested weir. This constructed auxiliary spillway is designed to bring the existing dam into compliance with current dam safety criteria in Georgia. The current auxiliary spillway will be removed from service.

2. The measures will be planned and installed by developing a contract with the current operator of the dam.

Effects of Recommended Action

Installing a roller compacted concrete spillway will bring Yellow River Watershed Structure No. 16 into compliance with current dam safety criteria. This will essentially eliminate the risk to loss of life for individuals in 40 homes, 1 recreational facility, and 1 road downstream. Additional effects will include continued protection against flooding, continued water quality benefits, continued fishing activities, continued recreational opportunities, protected land values, protected road and utility networks, and reduced maintenance costs for public infrastructure.

Wildlife habitat will not be disturbed during installation activities. No wetlands, wildlife habitat, fisheries, prime farmland, or cultural resources will be destroyed or threatened by this project. Some 13 acres of wetland and wetland type wildlife habitat will be preserved. Fishery habitats will also be maintained.

No endangered or threatened plant or animal species will be adversely affected by the project.

There are no wilderness areas in the watershed.

Scenic values will be complemented with improved riparian quality and cover conditions resulting from the installation of conservation animal waste management system and grazing land practices.

Alternatives

Eight alternative plans of action were considered in project planning. No significant adverse environmental impacts are anticipated from installation of the selected alternative. Also, the planned action is the most practical, complete, and acceptable means of protecting life and property of downstream residents.

Consultation—Public Participation

Original sponsoring organizations include the Gwinnett County Government, Gwinnett County Soil and Water Conservation District, and the Upper Ocmulgee River Resource Conservation and Development Council. At the initiation of the planning process, meetings were held with representatives of the original sponsoring organizations to ascertain their interest and concerns regarding the Yellow River Watershed. Gwinnett County agreed to serve as “lead sponsor” being responsible for leading the planning process with assistance from NRCS. As lead sponsor they also agreed to provide non-federal cost-share, property rights, operation and maintenance, and public participation during, and beyond, the planning process. Meetings with the project sponsors were held throughout the planning process, and project sponsors provided representation at planning team, technical advisory, and two public meetings.

An Interdisciplinary Planning Team provided for the “technical” administration of this project. Technical administration includes tasks pursuant to the NRCS nine-step planning process, and planning procedures outlined in the NRCS-National Planning Procedures Handbook. Examples of tasks completed by the Planning Team include, but are not limited to, Preliminary Investigations, Hydrologic Analysis, Reservoir Sedimentation Surveys, Economic Analysis, Formulating and Evaluating Alternatives, and Writing the Watershed Plan—Environmental Assessment. Data collected from partner agencies, databases, landowners, and others throughout the entire planning process, were evaluated at Planning Team meetings. Informal discussions amongst planning team members, partner agencies, and landowners were conducted throughout the entire planning period.

A Technical Advisory Group was developed to aid the Planning Team with the planning process. The following agencies were involved in developing this plan and provided representation on the Technical Advisory Group:

• Gwinnett County Government

• Gwinnett County Soil and Water Conservation Districts

• Georgia Department of Natural Resources, Environmental Protection Division [EPD], Safe Dams Program

• Georgia Department of Natural Resources, Wildlife Resources Division [WRD], Game and Fisheries Section

• United States Environmental Protection Agency [EPA], Region IV

• USDA, Natural Resources Conservation Service [NRCS]

• USDI, Fish and Wildlife Service [F&WS]

• U.S. Army Corps of Engineers [COE]

A meeting and field tour with the Technical Advisory Group was held on February 27, 2002 to assess proposed measures and their potential impact on resources of concern. A review of National Environmental Policy Act [NEPA] concerns was initiated at this meeting. Effects of proposed measures on NEPA concerns reviewed were documented. Additional field tours were held with the COE on March 11, 2002 to determine the most efficient 404 permitting process.

Suzanne Kenyon, Cultural Resources Specialist with the NRCS-National Water Management Center, visited the project site in the fall of 2001. She provided a methodology for considering culturally significant resources, which was followed in this planning process. An inventory of the watershed, and associated downstream impacted area was completed with no culturally important or archaeological sites noted. The area of potential effect was provided to the Georgia State Historic Preservation Office with passive concurrence provided.

Public Participation

A public meeting was held on November 13, 2002 to explain the Watershed Rehabilitation Program and to scope resource problems, issues, and concerns of local residents associated with the Y-16 project area. Potential alternative solutions to bring Y-16 into compliance with current dam safety criteria were also presented. Through a voting process, meeting participants provided input on issues and concerns to be considered in the planning process, and identified the most socially acceptable alternative solution.

A second public meeting was held on April 1, 2004 to summarize planning accomplishments, convey results of the reservoir sedimentation survey, and present various structural alternatives.

The roller compacted concrete chute spillway was identified as a complete, acceptable, efficient, and effective plan for the watershed and is the alternative preferred by the homeowners as indicated in the public meetings.

Conclusion

The Environmental Assessment summarized above indicates that this Federal action will not cause significant adverse local, regional, or national impacts on the environment. Therefore, based on the above findings, I have determined that an environmental impact statement for the recommended plan of action on Yellow River Watershed Structure No. 16 is not required.

Dated: May 11, 2004.
Leonard Jordan,
State Conservationist.

[FR Doc. 04-11423 Filed 5-19-04; 8:45 am]

BILLING CODE 3410-16-M